FEDERAL COMMUNICATIONS COMMISSION

47 CFR Part 73

[DA No. 01-93, MM Docket No. 01-6, RM-10009]

Radio Broadcasting Services; Steubenville, OH and Burgettstown, PA

AGENCY: Federal Communications Commission.

ACTION: Proposed rule.

SUMMARY: This document requests comments on a petition filed on behalf of Keymarket Licenses, LLC, requesting the reallotment of Channel 278B from Steubenville, Ohio, to Burgettstown, Pennsylvania, and modification of the license for Station WOGH (FM) to specify Burgettstown, Pennsylvania, as the community of license. The coordinates for Channel 278B at Burgettstown are 40-20-32 and 80-37-14. Although Burgettstown is located within 320 kilometers of the U.S.-Canadian border, concurrence of the Canadian Government is not required as no change in channel or transmitter site has been requested. In accordance with Section 1.420(i) of the Commission's Rules, we shall not accept competing expressions of interest in the use of Channel 278B at Burgettstown.

DATES: Comments must be filed on or before March 5, 2001, and reply comments on or before March 20, 2001.

ADDRESSES: Federal Communications Commission, Washington, DC 20554. In addition to filing comments with the FCC, interested parties should serve the petitioner's counsel, as follows: Allan G. Moskowtitz, Kaye, Scholer, Fierman, Hays & Handler, LLP, 901 15th Street, NW., Suite 1100, Washington, DC 20005.

FOR FURTHER INFORMATION CONTACT: Kathleen Scheuerle, Mass Media Bureau, (202) 418-2180.

SUPPLEMENTARY INFORMATION: This is a summary of the Commission's Notice of Proposed Rule Making, MM Docket No. 01-6, adopted January 3, 2001, and released January 12, 2001. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting

For the reasons discussed in the preamble, the Federal Communications Commission proposes to amend 47 CFR part 73 as follows:

PART 73—[RADIO BROADCAST SERVICES]

1. The authority citation for Part 73 continues to read as follows:

Authority: 47 U.S.C. 154, 303, 334 and 336.

§ 73.202 [Amended]

2. Section 73.202(b), the Table of FM Allotments under Pennsylvania, is amended by adding Burgettstown, Channel 278B.

Federal Communications Commission.
John A. Karousos,
Chief, Allocations Branch, Policy and Rules Division, Mass Media Bureau.

[FR Doc. 01-2282 Filed 1-25-01; 8:45 am]

BILLING CODE 6712-01-U